FEDERAL COMMUNICATIONS COMMISSION

47 CFR Part 73

[DA 04-362; MB Docket No. 04-33; RM-10847]

Radio Broadcasting Services; Cordele, Dawson, and Pinehurst, GA

AGENCY: Federal Communications Commission.

ACTION: Proposed rule.

SUMMARY: This document requests comments on a petition for rule making filed by West Com Corp., permittee of Station WMRZ(FM) (“WMRZ”), Dawson, Georgia, and Metro Com Corp., licensee of Station WQXZ(FM) (“WQXZ”), Cordele, Georgia. The petition proposes to upgrade Channel 251A, Station WMRZ, to Channel 251C3 and to reallot Channel 252A, Station WQXZ, from Cordele to Pinehurst, Georgia. The reallotment of Channel 252A to Pinehurst will provide Pinehurst with its first local aural transmission service. The coordinates for requested Channel 251C3 at Dawson, Georgia, are 31-37-25 NL and 84-19-49 WL, with a site restriction of 20 kilometers (12.4 miles) southeast of Dawson. The coordinates for requested Channel 252A at Pinehurst, Georgia, are 32-10-03 NL and 83-37-51 WL, with a site restriction of 12.9 kilometers (8.0 miles) east of Pinehurst.

Petitioners' proposal complies with the provisions of §§ 1.420(g)(3) and (i) of the Commission's rules, and therefore, the Commission will not accept competing expressions of interest in the use of Channel 251C3 at Dawson, Georgia, or Channel 252A at Pinehurst, Georgia, or require the licensees to demonstrate the availability of additional equivalent class channels for use by other parties.

DATES: Comments must be filed on or before April 19, 2004, and reply comments on or before May 4, 2004.

ADDRESSES: Secretary, Federal Communications Commission, 445 12th Street, SW., Room TW-A325, Washington, DC 20554. In addition to filing comments with the FCC, interested parties should serve the petitioner's counsel, as follows: Dan J. Alpert, Esq., the Office of Dan J. Alpert, 2120 N. 21st Road, Arlington, Virginia 22201.

FOR FURTHER INFORMATION CONTACT: R. Barthen Gorman, Media Bureau, (202) 418-2180.

SUPPLEMENTARY INFORMATION: This is a synopsis of the Commission's notice of proposed rule making, MB Docket No. 04-33, adopted February 25, 2004, and released February 27, 2004. The full text of this Commission decision is available for inspection and copying during regular business hours in the FCC's Reference Information Center at Portals II, 445 12th Street, SW., CY-A257, Washington, DC 20554. This document may also be purchased from the Commission's duplicating contractors, Qualex International, Portals II, 445 12th Street, SW., Room CY-B402, Washington, DC 20554, telephone 202-863-2893, facsimile 202-863-2898, or via e-mail qualexint@aol.com.

The provisions of the Regulatory Flexibility Act of 1980 do not apply to this proceeding.

Members of the public should note that from the time a notice of proposed rule making is issued until the matter is no longer subject to Commission consideration or court review, all ex parte contacts are prohibited in Commission proceedings, such as this one, which involve channel allotments. See 47 CFR 1.1204(b) for rules governing permissible ex parte contacts. The FM Table of Allotments, section 73.202(b) does not reflect the allotment of Channel 251A at Dawson, Georgia. In 1993, Station WAZE(FM) license was modified to specify operation on Channel 251A in lieu of Channel 221A at Dawson, Georgia. See 58 FR 36375, published July 7, 1993.

For information regarding proper filing procedures for comments, see 47 CFR 1.415 and 1.420.

List of Subjects in 47 CFR Part 73

Radio, Radio broadcasting.

For the reasons discussed in the preamble, the Federal Communications Commission proposes to amend 47 CFR part 73 as follows:

PART 73—RADIO BROADCAST SERVICES

1.The authority citation for part 73 continues to read as follows:

Authority: 47 U.S.C. 154, 303, 334, and 336.

§ 73.202 [Amended]

2. Section 73.202(b), the Table of FM Allotments under Georgia, is amended by adding Channel 251C3 and by removing Channel 221A at Dawson; removing Channel 252A at Cordele; and adding Pinehurst, Channel 252A.

Federal Communications Commission.
John A. Karousos,
Assistant Chief, Audio Division, Media Bureau.

[FR Doc. 04-5918 Filed 3-15-04; 8:45 am]

BILLING CODE 6712-01-P